DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Survey of Construction—Questionnaire for Building Permit Official.

OMB Control Number: 0607-0125.

Form Number(s): SOC-QBPO.

Type of Request: Extension of a currently approved collection.

Burden Hours: 225.

Number of Respondents: 900.

Average Hours per Response: 15 minutes.

Needs and Uses: The information collected on the SOC-QBPO is necessary to carry out the sampling for the Survey of Housing Starts, Sales and Completions (OMB number 0607-0110), also known as the Survey of Construction (SOC). Government agencies and private companies use statistics from SOC to monitor and evaluate the large and dynamic housing construction industry.

The U.S. Census Bureau is requesting an extension of the currently approved collection, scheduled to expire on May 31, 2014. The SOC-QBPO is an electronic questionnaire. Census Bureau field representatives (FRs) use Computer Assisted Personal Interviewing (CAPI) to collect the data. We will continue to use the current CAPI questionnaire without any revisions and are requesting approval of continued use of the existing questionnaire in the field. The overall length of the interview and the sample size also will not change.

The Census Bureau FRs use the SOC-QBPO to obtain information on the operating procedures of a permit office. This enables them to locate, classify, list, and sample building permits for residential construction. These permits are used as the basis for the sample selected for SOC. The Manufacturing and Construction Division (MCD), within the Census Bureau, also uses the information to verify and update the geographic coverage of permit offices.

Failure to collect this information would make it difficult, if not impossible, to classify accurately and sample building permits for the SOC. The SOC produces data for two principal economic indicators: New Residential Construction (housing starts and housing completions) and New Residential Sales. Information from the SOC is also used in the estimation of the value of new residential construction put in place for the Census Bureau's data on construction spending.

Affected Public: State, local, or tribal government.

Frequency: Annually.

Respondent's Obligation: Voluntary.

Legal Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: March 21, 2014.
Glenna Mickelson,
Management Analyst, Office of the Chief Information Officer.

[FR Doc. 2014-06642 Filed 3-25-14; 8:45 am]

BILLING CODE 3510-07-P